DEPARTMENT OF HEALTH AND HUMAN SERVICES

Health Resources and Services Administration

Meeting of the National Advisory Council on Nurse Education and Practice

AGENCY: Health Resources and Services Administration (HRSA), Department of Health and Human Services (HHS).

ACTION: Notice.

SUMMARY: In accordance with the Federal Advisory Committee Act, this notice announces that the National Advisory Council on Nurse Education and Practice (NACNEP) has scheduled a writing subcommittee public meeting. Information about NACNEP, the agenda, and materials for this meeting can be found on the NACNEP website at https://www.hrsa.gov/advisory-committees/nursing/index.html.

DATES: April 20, 2020, 10:00 a.m.-2:00 p.m. Eastern Time (ET).

ADDRESSES: This meeting will be held by teleconference, and/or Adobe Connect webinar.

• Webinar link. https://www.hrsa.gov/advisory-committees/nursing/meetings.html.

• Conference call-in number: 1-888-455-4141; Passcode: FACA Meeting.

FOR FURTHER INFORMATION CONTACT: Camillus Ezeike, Ph.D., LL.M. J.D., RN, PMP, Designated Federal Official, NACNEP, Bureau of Health Workforce, HRSA, 5600 Fishers Lane, Rockville, Maryland 20857; 301-443-2886; or BHWNACNEP@hrsa.gov.

SUPPLEMENTARY INFORMATION: NACNEP provides advice and recommendations to the Secretary of HHS and the U.S. Congress on policy issues related to the activities carried out under Title VIII of the Public Health Service (PHS) Act, including the range of issues relating to the nurse workforce, education, and practice improvement. NACNEP also prepares and submits an annual report to the Secretary of HHS and Congress describing its activities, including NACNEP's findings and recommendations concerning activities under Title VIII of the PHS Act.

During the April 20, 2020, meeting, the writing sub-committee of NACNEP will review recent literature and hear from an expert speaker on the topic of its 17th Report to Congress, Preparing Nurse Faculty, and Addressing the Shortage of Nurse Faculty and Clinical Preceptors. Agenda items are subject to change as priorities dictate. Refer to the NACNEP website for updated information concerning the meeting. The final agenda will be posted at least 14 calendar days before the meeting.

Members of the public will have the opportunity to provide comments. Public participants may submit written statements in advance of the scheduled meeting. Oral comments will be honored in the order they are requested and may be limited as time allows. Requests to submit a written statement or make oral comments to NACNEP should be sent to Camillus Ezeike using the contact information above at least 3 business days before the meeting.

Maria G. Button,
Director, Executive Secretariat.

[FR Doc. 2020-07115 Filed 4-3-20; 8:45 am]

BILLING CODE 4165-15-P